DEPARTMENT OF COMMERCE

Census Bureau

Agency Information Collection Activities; Submission to the Office of Management and Budget (OMB) for Review and Approval; Comment Request; Quarterly Summary of State & Local Government Tax Revenues

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on December 8, 2023 during a 60-day comment period. This notice allows for an additional 30 days for public comments.

Agency: U.S. Census Bureau, Department of Commerce.

Title: Quarterly Summary of State & Local Government Tax Revenues.

OMB Control Number: 0607-0112.

Form Number(s): F-71, F-72, F-73.

Type of Request: Regular submission, Request for an Extension, without Change, of a Currently Approved Collection.

Number of Respondents: 7,411.

Average Hours per Response: 16.36 minutes.

Burden Hours: 8,082.

Needs and Uses: The Census Bureau conducts the Quarterly Summary of State & Local Government Tax Revenues (QTax Survey) to provide quarterly estimates of State and local government tax revenue at a national level, as well as detailed tax revenue data for individual States. The Census Bureau is requesting an extension of the current clearance for this survey without changes to the forms. Quarterly measurement of, and reporting on, these fund flows provides valuable insight into trends in the national economy and that of individual States. Information collected on the type and quantity of taxes collected gives comparative data on how the various levels of government fund their public sector obligations. There are three components to the QTax Survey; the first component is the Quarterly Survey of Property Tax Collections (F-71), which collects property tax data from local governments, the second component is the Quarterly Survey of State Tax Collections (F-72), which collects data on 28 different tax categories for all 50 States, and the third component is the Quarterly Survey of Selected Non-Property Taxes (F-73), which collects local tax revenue data for three taxes: sales and gross receipts, individual income, and corporation net income taxes.

The information contained in this survey is the most current information available on a nationwide basis for State and local government tax collections. Data are collected for fifty State governments and the District of Columbia and a sample of the local governments (approximately 7,411).

The Census Bureau's previous request for an extension submitted on 03/23/2021 requested approval to remove the collection of all license taxes from the F-72 component of the Quarterly Summary of State and Local Government Tax Revenue. The Census Bureau reconsidered that plan and decided not to remove the collection of all license taxes from the F-72 component of the survey. Keeping the license taxes on the survey allows for a consistent time series and maintains item comparability with other surveys.

The Census Bureau conducts the three components of the QTax Survey to collect State and local government tax data for this data series established in 1962. It serves as a timely source of tax data for many data users and policy makers and is the most current information available on a nationwide basis for government tax collections Tax collection data are used to measure economic activity nationwide, as well as for comparison among the States. These data are also used in comparing the variety of taxes employed by individual States and in determining the revenue raising capacity of different types of taxes in different States.

Key users of these data include the Bureau of Economic Analysis (BEA), the Federal Reserve Board (FRB), and the Department of Housing and Urban Development (HUD) who rely on these data to provide they provide insight into and the most current information on the complex nature and fiscal health of State and local government finances. These data are included in the quarterly estimates of the National Income and Product Accounts developed by BEA. HUD has used the property tax data as one of nine cost indicators for developing Section 8 rent adjustments. These data are widely used by Federal, State, and local legislators, policy makers, analysts, economists, and researchers to follow the changing characteristics and monitor trends in public sector revenues. These data are also widely used by the media and academia.

Frequency: Quarterly.

Respondent's Obligation: Voluntary.

Legal Authority: Title 13 U.S.C., sections 161 and 182.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0112.

Sheleen Dumas,
Department PRA Clearance Officer, Office of the Under Secretary for Economic Affairs, Commerce Department.

[FR Doc. 2024-05001 Filed 3-7-24; 8:45 am]

BILLING CODE 3510-07-P